ENVIRONMENTAL PROTECTION AGENCY

40 CFR Part 52

[CA 295-0441a; FRL-7667-8]

Revisions to the California State Implementation Plan, Great Basin Unified Air Pollution Control District and Ventura County Air Pollution Control District

AGENCY: Environmental Protection Agency (EPA).

ACTION: Direct final rule.

SUMMARY: EPA is taking direct final action to approve revisions to the Great Basin Unified Air Pollution Control District (GBUAPCD) and Ventura County Air Pollution Control District (VCAPCD) portions of the California State Implementation Plan (SIP). The GBUAPCD revisions concern the emission of particulate matter (PM-10) from open fires and incinerator burning. The VCAPCD revisions concern the emission of particulate matter (PM-10) from open burning. We are approving local rules that administer regulations and regulate emission sources under the Clean Air Act as amended (CAA or the Act).

DATES: This rule is effective on August 6, 2004 without further notice, unless EPA receives adverse comments by July 7, 2004. If we receive such comments, we will publish a timely withdrawal in the Federal Register to notify the public that this rule will not take effect.

ADDRESSES: Mail or e-mail comments to Andy Steckel, Rulemaking Office Chief (AIR-4), U.S. Environmental Protection Agency, Region IX, 75 Hawthorne Street, San Francisco, CA 94105, or e-mail to steckel.andrew@epa.gov, or submit comments at http://www.regulations.gov.

You can inspect copies of the submitted rule revisions and EPA's technical support documents (TSDs) at our Region IX office during normal business hours. You may also see copies of the submitted rule revisions and TSDs at the following locations:

Environmental Protection Agency, Air Docket (6102), Ariel Rios Building, 1200 Pennsylvania Avenue, NW., Washington, DC 20460.

California Air Resources Board, Stationary Source Division, Rule Evaluation Section, 1001 “I” Street, Sacramento, CA 95814.

Great Basin Unified Air Pollution Control District, 157 Short Street, Suite 6, Bishop, CA 93514.

Ventura County Air Pollution Control District, 669 Country Square Drive, Ventura, CA 93003.

A copy of the rule may also be available via the Internet at http://www.arb.ca.gov/drdb/drdbltxt.htm. Please be advised that this is not an EPA Web site and may not contain the same version of the rule that was submitted to EPA.

FOR FURTHER INFORMATION CONTACT: Al Petersen, Rulemaking Office (AIR-4), U.S. Environmental Protection Agency, Region IX, (415) 947-4118, petersen.alfred@epa.gov.

SUPPLEMENTARY INFORMATION: Throughout this document, “we,” “us” and “our” refer to EPA.

Table of Contents

I. The State's Submittal

A. What Rules Did the State Submit?

B. Are There Other Versions of These Rules?

C. What Is the Purpose of the Rule Revisions?

II. EPA's Evaluation and Action

A. How Is EPA Evaluating the Rules?

B. Do the Rules Meet the Evaluation Criteria?

C. Public Comment and Final Action

III. Statutory and Executive Order Reviews

I. The State's Submittal

A. What Rules Did the State Submit?

Table 1 lists the rules we are approving with the date that they were adopted by the local air agencies and submitted by the California Air Resources Board (CARB).

Table 1.—Submitted Rules
Local agency | Rule No. | Rule title | Revised or amended | Submitted
GBUAPCD | 406 | Open Outdoor Fires | 09/24/03 Revised | 11/04/03
GBUAPCD | 407 | Incinerator Burning | 09/24/03 Revised | 11/04/03
VCAPCD | 56 | Open Burning | 11/11/03 Amended | 01/15/04

On December 23, 2003, the submittal of GBUAPCD Rules 406 and 407 was found to meet the completeness criteria in 40 CFR part 51, appendix V, which must be met before formal EPA review. On March 1, 2004, the submittal of VCAPCD Rule 56 was found to meet the completeness criteria.

B. Are There Other Versions of These Rules?

We approved GBUAPCD Rule 406 into the SIP on June 6, 1977 (42 FR 28883), originally adopted on January 21, 1976. We approved GBUAPCD Rule 407 into the SIP on June 6, 1977 (42 FR 28883), originally adopted on September 5, 1974. We approved VCAPCD Rule 56 into the SIP on May 18, 1999 (64 FR 26876), originally adopted on October 22, 1968.

C. What Is the Purpose of the Submitted Rule Revisions?

PM-10 harms human health and the environment. Section 110(a) of the CAA requires states to submit regulations that control PM-10 emissions.

The purpose of the revision to Rule 406 is as follows:

• To limit burning of household waste at single- or two-family dwellings to only dry non-glossy paper and cardboard and dry natural vegetation in areas granted a temporary exemption pursuant to California Code of Regulations (CCR), title 17, section 93113(e).

The purpose of the revisions to Rule 407 are as follows:

• To limit burning of household waste at single- or two-family dwellings to only dry non-glossy paper and cardboard and dry natural vegetation in areas granted a temporary exemption pursuant to CCR, title 17, section 93113(e).

• To allow this type of burning only with a valid permit on a burn day declared by the California Air Resources Board.

Revisions to Rule 56 are made to comply with revised California smoke management guidelines as follows:

• Requirements are now stated separately for open burning and for prescribed burning.

• Requirements for drying time are increased for trees and vegetation.

• Deleted is the exemption to allow open burning on no-burn days at elevations over 3,000 feet.

• Open burning is now prohibited when wind may carry emissions into smoke sensitive areas.

• Three different periods instead of two are now allowed for ignition in daylight hours.

• The VCAPCD may now allow open burning only on Burn Days declared by the District.

• The VCAPCD may now allow individual burns only on Marginal Burn Days declared by the District if impacts to smoke sensitive areas are not expected.

• The VCAPCD is now required to restrict burning in different regions to minimize impacts on smoke sensitive areas, cumulative smoke impacts, and public nuisance.

• A land manager must now submit a comprehensive smoke management plan for prescribed burning.

• For burns over 250 acres, the land manager must now also submit a post-burn evaluation.

• Added is an exemption to allow burning of unserviceable American flags.

• Added is an exemption to burn for the remediation of an oil spill consistent with State law.

• Various definitions are added and others revised to clarify or place further restrictions on burning.

II. EPA's Evaluation and Action

A. How Is EPA Evaluating the Rules?

Generally, SIP rules must be enforceable (see section 110(a) of the CAA) and must not relax existing requirements (see sections 110(l) and 193). BACM/BACT and RACM/RACT are not required for a PM-10 attainment area (see section 189(a) and 189(b)). GBUAPCD and VCAPCD are PM-10 attainment areas.

The following guidance documents were used for reference:

• Requirements for Preparation, Adoption, and Submittal of Implementation Plans, U.S. EPA, 40 CFR part 51.

• General Preamble for the Implementation of Title I of the Clean Air Act Amendments of 1990, 57 FR 13498, 13540 (April 16, 1992).

• General Preamble Appendix C3—Prescribed Burning Control Measures (57 FR 18072, April 28, 1992).

• Prescribed Burning Background Document and Technical Information Document for Best Available Control Measures (EPA-450/2-92-003).

• PM-10 Attainment Demonstration Maintenance Plan and Redesignation Request, KCAPCD (September 5, 3002).

• Smoke Management Guidelines for Agricultural and Prescribed Burning, California Code of Regulations, title 17, 80100-80320 (March 14, 2001).

B. Do the Rules Meet the Evaluation Criteria?

We believe the rules are consistent with the relevant policy and guidance regarding enforceability, SIP relaxations, and fulfilling RACM/RACT.

The TSDs have more information on our evaluation.

C. Public Comment and Final Action

As authorized in section 110(k)(3) of the CAA, EPA is fully approving the submitted rules because we believe they fulfill all relevant requirements. We do not think anyone will object to this approval, so we are finalizing the approval without proposing it in advance. However, in the Proposed Rules section of this Federal Register, we are simultaneously proposing approval of the same submitted rules. If we receive adverse comments by July 7, 2004, we will publish a timely withdrawal in the Federal Register to notify the public that the direct final approval will not take effect and we will address the comments in a subsequent final action based on the proposal. If we do not receive timely adverse comments, the direct final approval will be effective without further notice on August 6, 2004. This will incorporate these rules into the federally-enforceable SIP.

Please note that if EPA receives adverse comment on an amendment, paragraph, or section of this direct final rule and if that provision may be severed from the remainder of the rule, EPA may adopt as final those provisions of the rule that are not the subject of an adverse comment.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 6, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Authority: 42 U.S.C. 7401 et seq.

Dated: May 12, 2004.
Laura Yoshii,
Deputy Regional Administrator, Region IX.

Part 52, chapter I, title 40 of the Code of Federal Regulations is amended as follows:

PART 52—[AMENDED]

1. The authority citation for Part 52 continues to read as follows:

Authority: 42 U.S.C. 7401 et seq.

Subpart F—California

2. Section 52.220 is amended by adding paragraphs (c)(321)(i)(C) and (328)i)(A)(2) to read as follows:

§ 52.220 Identification of plan.

* * * * *

(c) * * *

(321) * * *

(i) * * *

(C) Great Basin Unified Air Pollution Control District.

(1) Rule 406, adopted on January 21, 1976 and revised on September 24, 2003.

(2) Rule 407, adopted on September 5, 1974 and revised on September 24, 2003.

* * * * *

(328) * * *

(i) * * *

(A) * * *

(2) Rule 56, adopted on October 22, 1968 and amended on November 11, 2003.

* * * * *

[FR Doc. 04-12767 Filed 6-4-04; 8:45 am]

BILLING CODE 6560-50-P